OFFICE OF PERSONNEL MANAGEMENT

Submission for Review 3206-0261: Questionnaire for Non-Sensitive Positions (SF 85)

AGENCY: Office of Personnel Management.

ACTION: 60-Day notice and request for comments.

SUMMARY: The Office of Personnel Management (OPM) proposes to request the Office of Management and Budget (OMB) renew a previously approved information collection, Questionnaire for Non-Sensitive Positions (SF 85).

DATES: Comments are encouraged and will be accepted until November 12, 2024. This process is conducted in accordance with 5 CFR 1320.8(d)(1).

ADDRESSES: You may submit comments, identified by docket number and/or Regulatory Information Number and title, by the following method:

Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: A copy of this ICR, with applicable supporting documentation, may be obtained by email to SuitEAforms@opm.gov, or by contacting Lynette Hornung 202-599-0090, or U. S. Office of Personnel Management, Suitability Executive Agent Programs, P.O. Box 699, Slippery Rock, PA 16057.

SUPPLEMENTARY INFORMATION: As required by the Paperwork Reduction Act of 1995, 44 U.S.C. 3506(c)(2), OPM is soliciting comments for this collection. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Background

The Questionnaire for Non-Sensitive Positions, Standard Form 85 (SF 85) is an information collection completed by applicants for, or incumbents of, Federal Government civilian positions, or positions in private entities performing work for the Federal Government under contractor. The collection is used as the basis of information for background investigations to establish that such individuals are:

• Suitable for employment or retention in Federal employment in a low risk, non-sensitive position, or fit for employment or retention in Federal employment in the excepted service when the duties to be performed are equivalent to a low risk, non-sensitive position;

• Fit to perform work on behalf of the Federal Government pursuant to the Government contract, when the duties to be performed are equivalent to a low risk, non-sensitive position;

• Eligible for physical and logical access to federally controlled facilities or information systems, when the duties to be performed by the individual are equivalent to the duties performed by an employee in a low risk, non-sensitive position.

For applicants, the SF 85 is used only after a conditional offer of employment has been made. eApplication (eApp) is a web-based system application that houses the SF 85. A variable in assessing burden hours is the nature of the electronic application. The electronic application includes branching questions and instructions which provide for a tailored collection from the respondent based on varying factors in the respondent's personal history. The burden on the respondent is reduced when their personal history is not relevant to particular questions, since the question branches or expands for additional details only for those individuals who have pertinent information to provide regarding that line of questioning. Accordingly, the burden on the respondent will vary depending on whether the information collection relates to the respondent's personal history.

OPM recommends renewal of the form with no changes. As we await the implementation of the Personnel Vetting Questionnaire, which was approved by the Office of Management and Budget (87 FR 71700 and 88 FR 12703) on November 15, 2023, agencies continue to use the SF 85 for investigations of individuals holding low risk non-sensitive positions.

Analysis

Agency: Office of Personnel Management.

Title: Questionnaire for Non-Sensitive Positions, Standard Form 85 (SF 85).

OMB Number: 3206-0261.

Frequency: On occasion.

Affected Public: Individuals.

Number of Respondents: 55,040.

Estimated Time per Respondent: 120 minutes.

Total Burden Hours: 110,080.

Alexys Stanley,
Federal Register Liaison.

[FR Doc. 2024-20563 Filed 9-10-24; 8:45 am]

BILLING CODE 6325-38-P